Title 3—

The President

Proclamation 7706 of September 17, 2003

National Hispanic Heritage Month, 2003

By the President of the United States of America

A Proclamation

America's diversity has always been a great strength of our Nation. As we celebrate National Hispanic Heritage Month, we recognize and applaud the extraordinary accomplishments of Hispanic Americans.

From America's beginning, Hispanic Americans have served as leaders in business, government, law, science, athletics, the arts, and many other fields. In 1822, Joseph Marion Hernández became the first Hispanic to serve as a member of the United States Congress, representing the newly established territory of Florida. Businessman Roberto Goizueta, a refugee from Cuba who rose to become the CEO of one of America's largest corporations, is an inspiring example of what immigrants to America can achieve through hard work and character. Presidential Medal of Freedom recipient Roberto Clemente's athletic skills, generosity, and charity made him a legend on and off the baseball field. Through memorable recordings and performances, singer Celia Cruz celebrated her heritage and helped introduce salsa music to the United States.

Hispanic Americans have sacrificed in defense of this Nation's freedom, serving in every major American conflict. More than three dozen Hispanic Americans have earned the Medal of Honor. Today, more than 125,000 Hispanic Americans serve in the Armed Forces, approximately 9 percent of our active-duty military. As we work to advance peace, freedom, and opportunity abroad, we are grateful to all of the brave men and women who serve our Nation, and to their families.

During Hispanic Heritage Month, I join with all Americans in recognizing the many contributions of Hispanic Americans to the United States, and in celebrating Hispanic heritage and culture. To honor the achievements of Hispanic Americans, the Congress, by Public Law 100-402 as amended, has authorized and requested the President to issue annually a proclamation designating September 15 through October 15, as “National Hispanic Heritage Month.”

NOW, THEREFORE, I, GEORGE W. BUSH, President of the United States of America, do hereby proclaim September 15 through October 15, 2003, as National Hispanic Heritage Month. I call upon public officials, educators, librarians, and all the people of the United States to observe this month with appropriate ceremonies, activities, and programs.

IN WITNESS WHEREOF, I have hereunto set my hand this seventeenth day of September, in the year of our Lord two thousand three, and of the Independence of the United States of America the two hundred and twenty-eighth.

B

[FR Doc. 03-24216

Filed 9-22-03; 11:38 am]

Billing code 3195-01-P